DEPARTMENT OF ENERGY

Federal Energy Regulatory Commission

[Docket No. CP99-580-002]

Southern LNG Inc.; Notice of Site Visit

May 8, 2001.

On May 17, 2001, at 9 a.m., staff from the Office of Energy Projects (OEP) will conduct a pre-certification site visit of the proposed Sendout Modification Project at Southern LNG Inc.'s (Southern LNG) existing liquefied natural gas import terminal on Elba Island near Savannah, Georgia. Representatives of Southern LNG will accompany the OEP staff.

At 1:30 p.m. on May 17, 2001, OEP staff and Southern LNG will conduct an informal Plant Open House to discuss general LNG issues.

All interested parties may attend the site visit and/or open house. Those planning to attend must provide their own transportation. For further information on attending the site visit or open house, please contact the Commission's Office of External Affairs at (202) 208-0004.

Linwood A. Watson, Jr.,
Acting Secretary.

[FR Doc. 01-11973 Filed 5-11-01; 8:45 am]

BILLING CODE 6717-01-M